DEPARTMENT OF AGRICULTURE

Food Safety and Inspection Service

[Docket No. FSIS-2014-0034]

Availability of FSIS Compliance Guideline for Controlling Salmonella and Campylobacter in Raw Poultry

AGENCY: Food Safety and Inspection Service, USDA.

ACTION: Notice of availability and opportunity for comment.

SUMMARY: The Food Safety and Inspection Service (FSIS) is announcing the availability of and requesting comment on the revised guideline to assist poultry establishments in controlling Salmonella and Campylobacter in raw poultry. The Agency has revised its guideline to provide updated information for establishments to use to control pathogens in raw poultry products with the goal of reducing human illnesses associated with consuming poultry contaminated with Salmonella and Campylobacter. The guideline represents the best practice recommendations of FSIS based on scientific and practical considerations. This document does not represent regulatory requirements. By following this guideline, poultry establishments should be able to produce raw poultry products that have less contamination with pathogens, including Salmonella and Campylobacter, than would otherwise be the case.

DATES: Submit comments on or before February 16, 2016.

ADDRESSES: A downloadable version of the compliance guideline is available to view and print at http://www.fsis.usda.gov/Regulations_&_Policies/Compliance_Guides_Index/index.asp. No hard copies of the compliance guideline have been published.

FSIS invites interested persons to submit comments on this notice. Comments may be submitted by one of the following methods:

Federal eRulemaking Portal: This Web site provides the ability to type short comments directly into the comment field on this Web page or attach a file for lengthier comments. Go to http://www.regulations.gov/. Follow the on-line instructions at that site for submitting comments.

Mail, including CD-ROMs: Send to Docket Clerk, U.S. Department of Agriculture, Food Safety and Inspection Service, Patriots Plaza 3, 1400 Independence Avenue SW., Mailstop 3782, Room 8-163B, Washington, DC 20250-3700.

Hand- or courier-delivered submittals: Deliver to Patriots Plaza 3, 355 E Street SW., Room 8-163A, Washington, DC 20250-3700.

Instructions: All items submitted by mail or electronic mail must include the Agency name and docket number FSIS-2014-0034. Comments received in response to this docket will be made available for public inspection and posted without change, including any personal information, to http://www.regulations.gov.

Docket: For access to background documents or to comments received, go to the FSIS Docket Room at Patriots Plaza 3, 355 E. Street SW., Room 164-A, Washington, DC 20250-3700 between 8:00 a.m. and 4:30 p.m., Monday through Friday.

FOR FURTHER INFORMATION CONTACT: Daniel L. Engeljohn, Ph.D., Assistant Administrator, Office of Policy and Program Development; Telephone: (202) 205-0495, or by Fax: (202) 720-2025.

SUPPLEMENTARY INFORMATION:

Background

FSIS is responsible for verifying that the nation's commercial supply of meat, poultry, and egg products is safe, wholesome, and properly labeled and packaged.

Salmonella and Campylobacter bacteria are among the most frequent causes of foodborne illness. These bacteria can reside in the intestinal tract of animals, including birds. Salmonella and Campylobacter contamination of raw poultry products occurs during slaughter operations as well as during the live-animal rearing process (e.g., on-farm contamination can coat the exterior of the bird and remain attached to the skin). Contamination with pathogens on poultry can be minimized through the use of preventative pre-harvest practices, with the use of proper sanitary dressing procedures, by maintaining sanitary conditions before and during production, and by the application of antimicrobial interventions during slaughter and thereafter during fabrication of the carcasses into parts and comminuted product.

In 2010, FSIS issued a guideline (third edition) for poultry establishments with recommendations on how to identify hazards of public health concern when conducting their hazard analysis and how to prevent and control these hazards through Hazard Analysis and Critical Control Plans (HACCP), Sanitation Standard Operating Procedures, or other prerequisite programs. FSIS has revised its guideline (fourth edition) to provide updated information for establishments to use to control pathogens in raw poultry products. FSIS has also revised the guideline to include recommendations for establishments regarding lotting and sanitary dressing procedures, pre-harvest interventions and management practices, antimicrobial interventions during slaughter and thereafter during fabrication, and the use of establishment sampling results to inform decision making. In addition, FSIS revised the guideline to include information on prerequisite programs, including how they can fit into the HACCP system.

Furthermore, since issuance of the most recent version of the guideline in 2010, there have been several outbreaks associated with consumption of raw poultry products, including chicken parts and comminuted (including ground) turkey products. In 2011, there were two Salmonella outbreaks associated with ground turkey products (specifically, turkey burgers and ground turkey) that resulted in a total of 148 illnesses and 40 hospitalizations. In 2012 and 2013-2014, there were two Salmonella outbreaks associated with consumption of chicken parts that together resulted in over 700 illnesses and over 270 hospitalizations. Also in 2013, a Salmonella outbreak resulted from consumption of mechanically separated turkey that was sent to an institutional facility. This outbreak resulted in 9 illnesses and 2 hospitalizations.

In addition, in 2015, the Centers for Disease Control and Prevention (CDC) investigated two separate outbreaks of Salmonella enteritidis infections attributed to raw, heat treated, stuffed chicken products resulted in 20 illnesses (15 from one outbreak, and five from the other outbreak). The implicated products were labeled with instructions identifying that the product was uncooked (raw) and included cooking instructions for preparation. Some case-patients reported following the cooking instructions on the label and using a food thermometer to confirm that the recommended temperature was achieved.

FSIS analyzed practices of establishments that manufactured product associated with these outbreaks and found problems with sanitation, intervention use, and the validation of cooking instructions at some or all of these establishments. FSIS considered these problems and is providing recommendations in the revised guideline specific to these issues.

Pre-harvest contamination can affect the level of Salmonella and Campylobacter on FSIS-regulated products. FSIS has updated the pre-harvest information in the guideline based on recently published information. In addition, in response to a recommendation made by the U.S. Government Accountability Office,¹ FSIS updated the guideline to include known information on the effectiveness of pre-harvest practices. To further inform best practice guidance and to inform other Agency activities, FSIS requests comments and data from industry and other interested parties regarding pre-harvest pathogen control strategies, including information on the effectiveness of pre-harvest strategies in reducing pathogen levels in poultry presented for slaughter.

¹ Available at http://www.gao.gov/products/GAO-14-744.

The recently proposed pathogen reduction performance standards ² for raw chicken parts and NRTE comminuted chicken and turkey are based on meeting certain Healthy People 2020 (HP2020) goals—specifically, the HP2020 goal to reduce human illnesses from Salmonella by 25 percent and Campylobacter by 33 percent ³ by the year 2020. This guideline can assist establishments in meeting these (and existing poultry carcass) performance standards, thereby resulting in a reduction in human illnesses.

² 80 FR 3940; Jan. 16, 2015.

³ Because the prevalence for NRTE comminuted turkey is especially low, the highest practical reduction for this product was estimated to be 19 percent. Therefore, for this one pathogen-product pair, NRTE comminuted turkey and Campylobacter, FSIS proposed a reduction less than its stated goal.

FSIS encourages establishments to follow this guideline. This guideline represents FSIS's current thinking, and FSIS will update it as necessary to reflect comments received and any additional information that becomes available.

USDA Nondiscrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.) should contact USDA's TARGET Center at (202) 720-2600 (voice and TDD).

Additional Public Notification

FSIS will announce this notice online through the FSIS Web page located at http://www.fsis.usda.gov/federal-register.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/subscribe. Options range from recalls to export information to regulations, directives, and notices. Customers can add or delete subscriptions themselves, and have the option to password protect their accounts.

Done at Washington, DC, on December 11, 2015.
Alfred V. Almanza,
Acting Administrator.

[FR Doc. 2015-31628 Filed 12-15-15; 8:45 am]

BILLING CODE 3410-DM-P